DEPARTMENT OF ENERGY

Federal Energy Regulatory Commission

Combined Notice of Filings

Take notice that the Commission has received the following Natural Gas Pipeline Rate and Refund Report filings:

Filings Instituting Proceedings

Docket Numbers: RP15-323-000.

Applicants: Iroquois Gas Transmission System, L.P.

Description: § 4(d) rate filing per 154.204: 01/08/15 Negotiated Rates—ConEdison Energy Inc. (HUB) 2275-89 to be effective 1/7/2015.

Filed Date: 1/8/15.

Accession Number: 20150108-5176.

Comments Due: 5 p.m. ET 1/20/15.

Docket Numbers: RP15-324-000.

Applicants: Iroquois Gas Transmission System, L.P.

Description: § 4(d) rate filing per 154.204: 01/08/15 Negotiated Rates—Mercuria Energy Gas Trading LLC (HUB) 7540-89 to be effective 1/7/2015.

Filed Date: 1/8/15.

Accession Number: 20150108-5214.

Comments Due: 5 p.m. ET 1/20/15.

Docket Numbers: RP15-325-000.

Applicants: Iroquois Gas Transmission System, L.P.

Description: § 4(d) rate filing per 154.204: 01/08/15 Negotiated Rates—Trafigura AG (HUB) 7445-89 to be effective 1/7/2015.

Filed Date: 1/8/15.

Accession Number: 20150108-5216.

Comments Due: 5 p.m. ET 1/20/15.

Docket Numbers: RP15-326-000.

Applicants: Millennium Pipeline Company, L.L.C.

Description: Annual Penalty Report of Millennium Pipeline Company, L.L.C.

Filed Date: 1/9/15.

Accession Number: 20150109-5063.

Comments Due: 5 p.m. ET 1/21/15.

Docket Numbers: RP15-327-000.

Applicants: Carolina Gas Transmission Corporation.

Description: Carolina Gas Transmission's Annual Interruptible Sharing Filing for the period ending October 31, 2014.

Filed Date: 1/9/15.

Accession Number: 20150109-5065.

Comments Due: 5 p.m. ET 1/21/15.

Docket Numbers: RP15-328-000.

Applicants: Natural Gas Pipeline Company of America.

Description: § 4(d) rate filing per 154.204: Removal of Expired Agreements Effecitve 2/9/15 to be effective 2/9/2015.

Filed Date: 1/9/15.

Accession Number: 20150109-5090.

Comments Due: 5 p.m. ET 1/21/15.

Docket Numbers: RP15-329-000.

Applicants: Iroquois Gas Transmission System, L.P.

Description: § 4(d) rate filing per 154.204: 01/09/15 Negotiated Rates—ConEdison Energy Inc. (HUB) 2275-89 to be effective 1/8/2015.

Filed Date: 1/9/15.

Accession Number: 20150109-5220.

Comments Due: 5 p.m. ET 1/21/15.

Docket Numbers: RP15-330-000.

Applicants: Iroquois Gas Transmission System, L.P.

Description: § 4(d) rate filing per 154.204: 01/09/15 Negotiated Rates—Mercuria Energy Gas Trading LLC (HUB)—7540-89 to be effective 1/8/2015.

Filed Date: 1/9/15.

Accession Number: 20150109-5221.

Comments Due: 5 p.m. ET 1/21/15.

Docket Numbers: RP15-331-000.

Applicants: Iroquois Gas Transmission System, L.P.

Description: § 4(d) rate filing per 154.204: 01/09/15 Negotiated Rates—Trafigura AG (HUB) 7445-89 to be effective 1/8/2015.

Filed Date: 1/9/15.

Accession Number: 20150109-5223.

Comments Due: 5 p.m. ET 1/21/15.

Docket Numbers: RP15-332-000.

Applicants: Iroquois Gas Transmission System, L.P.

Description: § 4(d) rate filing per 154.204: 01/12/15 Negotiated Rates—ConEdison Energy Inc. (HUB) 2275-89 to be effective 1/9/2015.

Filed Date: 1/12/15.

Accession Number: 20150112-5121.

Comments Due: 5 p.m. ET 1/26/15.

Docket Numbers: RP15-333-000.

Applicants: Iroquois Gas Transmission System, L.P.

Description: § 4(d) rate filing per 154.204: 01/12/15 Negotiated Rates—Mercuria Energy Gas Trading LLC (HUB)—7540-89 to be effective 1/9/2015.

Filed Date: 1/12/15.

Accession Number: 20150112-5204.

Comments Due: 5 p.m. ET 1/26/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-24-001.

Applicants: Garden Banks Gas Pipeline, LLC.

Description: Compliance filing per 154.203: PAL and Clean-up Filing Refile to Comply with Order to be effective 11/1/2014.

Filed Date: 11/26/14.

Accession Number: 20141126-5067.

Comments Due: 5 p.m. ET 1/15/15.

Docket Numbers: RP14-1208-002.

Applicants: Equitrans, L.P.

Description: Compliance filing per 154.203: Compliance Filing—RCC Force Majeure Clarification to be effective 10/1/2014.

Filed Date: 12/10/14.

Accession Number: 20141210-5103.

Comments Due: 5 p.m. ET 1/15/15.

Docket Numbers: RP15-234-001.

Applicants: Millennium Pipeline Company, LLC.

Description: Compliance filing per 154.203: Calculation of Reservation Charge Credits—Compliance Filing to be effective 1/1/2015.

Filed Date: 1/12/15.

Accession Number: 20150112-5351.

Comments Due: 5 p.m. ET 1/26/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2015.
Nathaniel J. Davis, Sr.,
Deputy Secretary.

[FR Doc. 2015-00729 Filed 1-16-15; 8:45 am]

BILLING CODE 6717-01-P